DEPARTMENT OF ENERGY

10 CFR Parts 429 and 430

[Docket No. EERE-2012-BT-TP-0024]

RIN 1904-AC79

Energy Conservation Program for Consumer Products: Test Procedures for Residential Furnaces and Boilers

AGENCY: Office of Energy Efficiency and Renewable Energy, Department of Energy.

ACTION: Reopening of public comment period.

SUMMARY: On March 11, 2015, the U.S. Department of Energy (DOE) published in the Federal Register a notice of proposed rulemaking (NOPR) that proposes to revise its test procedure for residential furnaces and boilers established under the Energy Policy and Conservation Act (80 FR 12876). DOE published this NOPR so stakeholders can review and provide input on these proposed revisions. The comment period for the NOPR pertaining to the subject residential furnaces and boilers test procedure was scheduled to end May 26, 2015. After receiving a request for additional time to comment, DOE has decided to reopen the comment period for the NOPR pertaining to the test procedure for residential furnaces and boilers until July 10, 2015.

DATES: DOE will accept comments, data, and information regarding the notice of proposed rulemaking no later than July 10, 2015.

ADDRESSES: Instructions: All comments submitted must identify the NOPR for Test Procedures for Residential Furnaces and Boilers, and provide docket number EERE-2012-BT-TP-0024 and/or regulatory information number (RIN) number 1904-AC79. Comments may be submitted using any of the following methods:

1. Federal eRulemaking Portal: www.regulations.gov. Follow the instructions for submitting comments.

2. Email: ResFurnBoilers2013TP0008@ee.doe.gov. Include the docket number and/or RIN in the subject line of the message. Submit electronic comments in Word Perfect, Microsoft Word, PDF, or ASCII file format, and avoid the use of special characters or any form on encryption.

3. Postal Mail: Ms. Brenda Edwards, U.S. Department of Energy, Building Technologies Office, Mailstop EE-5B, 1000 Independence Avenue SW., Washington, DC 20585-0121. If possible, please submit all items on a compact disc (CD), in which case it is not necessary to include printed copies.

4. Hand Delivery/Courier: Ms. Brenda Edwards, U.S. Department of Energy, Building Technologies Office, 950 L'Enfant Plaza SW., Suite 600, Washington, DC 20024. Telephone: (202) 586-2945. If possible, please submit all items on a CD, in which case it is not necessary to include printed copies.

No telefacsimilies (faxes) will be accepted. For detailed instructions on submitting comments and additional information on the rulemaking process, see the “Public Participation” section of the March 11, 2015 NOPR. 80 FR 12876.

Docket: The docket, which includes Federal Register notices, public meeting attendee lists and transcripts, comments, and other supporting documents/materials, is available for review at www.regulations.gov. All documents in the docket are listed in the www.regulations.gov index. However, not all documents listed in the index may be publically available, such as those containing information that is exempt from public disclosure.

A link to the docket Web page can be found at: http://www.regulations.gov/#!docketDetail;D=EERE-2012-T-TP-0024. This Web page contains a link to the docket for this notice on the www.regulations.gov site. The www.regulations.gov Web page contains simple instructions on how to access all documents, including public comments, in the docket. See section V, “Public Participation,” of the March 11, 2015 NOPR for further information on how to submit comments through www.regulations.gov.

For further information on how to submit a comment or review other public comments and the docket, contact Ms. Brenda Edwards at (202) 586-2945 or by email: Brenda.Edwards@ee.doe.gov.

FOR FURTHER INFORMATION CONTACT: Ms. Ashley Armstrong, U.S. Department of Energy, Office of Energy Efficiency and Renewable Energy, Building Technologies Office, EE-5B, 1000 Independence Avenue SW., Washington, DC 20585-0121. Telephone: (202) 586-6590. Email: Ashley.Armstrong@ee.doe.gov.

Mr. Eric Stas, U.S. Department of Energy, Office of the General Counsel, GC-33, 1000 Independence Avenue SW., Washington, DC 20585-0121. Telephone: (202) 586-9507. Email: Eric.Stas@hq.doe.gov.

For information on how to submit or review public comments and the docket, contact Ms. Brenda Edwards at (202) 586-2945 or by email: Brenda.Edwards@ee.doe.gov.

SUPPLEMENTARY INFORMATION: DOE published a NOPR in the Federal Register to make available and invite public comments on its proposed revisions to the test procedure for residential furnaces and boilers. 80 FR 12876 (March 11, 2015). The document set a deadline for the submission of written comments by May 26, 2015. The Air-Conditioning, Heating, and Refrigeration Institute (AHRI) requested an extension of the public comment period, stating that additional time is necessary to conduct product testing and review supporting information in order to prepare and submit comments. After careful consideration of the request, DOE has determined that reopening the comment period to allow additional time for interested parties to submit comments is appropriate based on the foregoing reasons. DOE believes that reopening the comment period by 45 days will provide the public with sufficient time to submit comments responding to DOE's proposed test procedure revisions. Accordingly, DOE is reopening the comment period to midnight of July 10, 2015 and will deem any comments received (or postmarked) by that date to be timely submitted.

Issued in Washington, DC, on May 27, 2015.
Kathleen B. Hogan,
Deputy Assistant Secretary for Energy Efficiency and Renewable Energy.

[FR Doc. 2015-13356 Filed 6-1-15; 8:45 am]

BILLING CODE 6450-01-P